DEPARTMENT OF HOMELAND SECURITY

Coast Guard

33 CFR Part 117

[Docket No. USCG-2013-0964]

Drawbridge Operation Regulation; Upper Mississippi River, Dubuque, IA

AGENCY: Coast Guard, DHS.

ACTION: Notice of change in deviation from drawbridge regulation.

SUMMARY: On December 2, 2013, the Coast Guard issued a temporary deviation, lasting approximately 10 weeks, from the operating schedule that governs the Illinois Central Railroad Drawbridge across the Upper Mississippi River, mile 579.9, at Dubuque, Iowa. This temporary deviation allows the bridge to open on signal if at least 24 hours advance notice is given. It is necessary to allow the bridge owner time to perform preventive maintenance that is essential to the continued safe operation of the drawbridge. Maintenance is scheduled in the winter and when there is less impact on navigation; instead of scheduling work in the summer, when river traffic increases. We are modifying that temporary deviation to allow for two three-day periods during the deviation when the bridge will remain in the closed-to-navigation position.

DATES: The temporary deviation published in the Federal Register of December 2, 2013, (78 FR 72022) remains in effect; however, from 8 a.m., January 20, 2014 to 8 a.m., January 23, 2014 and 8 a.m. February 3, 2014, to 8 a.m., February 6, 2014, the bridge will remain in the closed-to-navigation position.

ADDRESSES: The docket for this deviation, [USCG-2013-0964] is available at http://www.regulations.gov. Type the docket number in the “SEARCH” box and click “SEARCH.” Click on Open Docket Folder on the line associated with this deviation. You may also visit the Docket Management Facility in Room W12-140 on the ground floor of the Department of Transportation, West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl Collins, Program Manager, Docket Operations, telephone 202-366-9826.

SUPPLEMENTARY INFORMATION: The Chicago, Central & Pacific Railroad requested a temporary deviation for the Illinois Central Railroad Drawbridge, across the Upper Mississippi River, mile 579.9, at Dubuque, Iowa to open on signal if at least 24 hours advance notice is given for 76 days from 12:01 a.m., December 18, 2013 to 7 a.m., March 3, 2014 to allow the bridge owner time for preventive maintenance. The temporary deviation published in the Federal Register on December 2, 2013 (78 FR 72022). The Chicago, Central & Pacific Railroad further requested, to support preventative maintenance on the bridge, to leave the bridge in the closed-to-navigation position for 6 days from 8 a.m., January 20, 2014 to 8 a.m., January 23, 2014 and 8 a.m., February 3, 2014 to 8 a.m., February 6, 2014. The Illinois Central Railroad Drawbridge regularly operates in accordance with 33 CFR 117.5, which states the general requirement that drawbridges shall open promptly and fully for the passage of vessels when a request to open is given in accordance with the subpart.

There are no alternate routes for vessels transiting this section of the Upper Mississippi River.

Winter conditions on the Upper Mississippi River coupled with the closure of Army Corps of Engineer's Lock No. 18 (Mile 410.5, UMR) and Lock No. 22 (Mile 301.2, UMR) until 11:00 a.m., March 4, 2014 will preclude any significant navigation demands for the drawspan opening.

The Illinois Central Railroad Drawbridge, in the closed-to-navigation position, provides a vertical clearance of 19.9 feet above normal pool. Navigation on the waterway consists primarily of commercial tows and recreational watercraft. This temporary deviation has been coordinated with waterway users. No objections were received.

In accordance with 33 CFR 117.35(e), the drawbridge must return to its regular operating schedule immediately at the end of the effective period of this temporary deviation. This deviation from the operating regulations is authorized under 33 CFR 117.35.

Dated: January 9, 2013.
Eric A. Washburn,
Bridge Administrator, Western Rivers.

[FR Doc. 2014-01240 Filed 1-21-14; 8:45 am]

BILLING CODE 9110-04-P